DEPARTMENT OF HEALTH AND HUMAN SERVICES

National Institutes of Health

National Library of Medicine; Amended Notice of Meeting

Notice is hereby given of a change in the meeting of the Board of Scientific Counselors, National Library of Medicine, October 25, 2005, 9 a.m. to October 25, 2005, 5 p.m., National Library of Medicine, Building 38, Board Room, 2nd Floor, 8600 Rockville Pike, Bethesda, MD 20892 which was published in the Federal Register on August 16, 2005, 70 FR 48166.

In addition to the October 25, 2005 meeting, there will be a meeting on October 24, 2005 from 5 p.m. to 7 p.m. at the Bethesda Marriott, 5151 Pooks Hill Road, Bethesda, Maryland 20892. The meeting is partially closed to the public.

Dated: October 3, 2005.
Anthony M. Coelho, Jr.,
Acting Director, Office of Federal Advisory Committee Policy.

[FR Doc. 05-20430 Filed 10-11-05; 8:45 am]

BILLING CODE 4140-01-M